DEPARTMENT OF ENERGY

Federal Energy Regulatory Commission

[Docket No. CP06-465-000]

Puget Sound Energy, Inc.; Notice of Intent To Prepare an Environmental Assessment for the Proposed Jackson Prairie Storage Project Amendment and Request for Comments on Environmental Issues

November 15, 2006.

The staff of the Federal Energy Regulatory Commission (FERC or Commission) will prepare an environmental assessment (EA) that will discuss the environmental impacts of the Jackson Prairie Storage Project Amendment, involving construction and operation of facilities by Puget Sound Energy, Inc. (Puget) in Lewis County, Washington. The EA will be used by the Commission in its decision-making process to determine whether or not to authorize the project.

This notice announces the opening of the scoping period that will be used to gather environmental input from the public and interested agencies on the project. Your input will help the Commission staff determine which issues need to be evaluated in the EA. Please note that the scoping period will close on December 15, 2006.

An effort is being made to send this notice to all individuals, organizations, Native American Tribes, and government entities interested in and/or potentially affected by the proposed project. This includes all landowners who are potential right-of-way grantors, whose property may be used temporarily for project purposes, or who own homes within distances defined in the Commission's regulations of certain aboveground facilities. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility on My Land? What Do I Need to Know?” was attached to the project notice provided to landowners. This fact sheet addresses a number of typically asked questions, including the use of eminent domain and how to participate in the Commission's proceedings. It is available for viewing on the FERC Internet Web site (http://www.ferc.gov).

Summary of the Proposed Project

Puget proposes to modify two existing observation wells, install a new 75-horsepower electric-driven compressor, construct about 575 feet of new 4- to 6-inch-diameter gathering pipelines, and install other appurtenant facilities at its existing Jackson Prairie Storage Facility in Lewis County, Washington. Puget seeks authorization of these facilities in order to recycle gas that has migrated beyond its current certificated storage boundary. This proposal does not include any increase in the amount of cushion or working gas currently authorized at this facility.¹

¹ Puget's application in Docket No. CP06-465-000 was filed with the Commission under Section 7 of the Natural Gas Act.

In addition, Puget requests an amendment to its existing certificate to revise the total gas level of the storage facility to recognize a permanent loss of 0.9 billion cubic feet of cushion gas that has occurred during the facility's 40 years of operation. Puget further requests amendments to existing certificates, as necessary, to confirm the approved status of all current well operations at the storage field and to confirm the facilities certificated zone boundaries. No environmental disturbance is associated with the revised cushion and total gas level amendment.

The existing Jackson Prairie Storage Field interconnects with Northwest Pipeline Corporation's transmission system which provides natural gas supplies to markets in the Pacific Northwest. The general location of Puget's proposed facilities is shown on the map attached as appendix 1.²

² The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Two 4-inch-to 6-inch-diameter pipelines would be constructed in accordance with Puget's proposal. One pipeline would be about 500-feet-long, with about 120 feet of its length on an existing well pad, and about 380 feet would be located in a grassy area along an existing road. Construction would disturb an area about 7-feet-wide along the road, totaling less than 0.1 acre. An additional 75-foot-long 4-inch-to 6-inch-diameter pipeline would be installed in a well pad located within the project area of Puget's existing facilities.

Modifications to the two observation wells would occur entirely within the existing well pads. The new compressor would be installed in the existing gas dehydration/compression plant on an existing fenced gravel pad.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received will be considered during the preparation of the EA. State and local government representatives are encouraged to notify their constituents of this proposed action and encourage them to comment on their areas of concern.

In the EA, we ³ will discuss impacts that could occur as a result of the construction and operation of the proposed project. We will also evaluate possible alternatives to the proposed project or portions of the project, and make recommendations on how to lessen or avoid impacts on the various resource areas. The EA we will discuss impacts that could occur as a result of the construction and operation of the proposed project under these general headings:

³ “We”, “us”, and “our” refer to the environmental staff of the Office of Energy Projects (OEP).

• Geology and soils

• Land use

• Water resources, fisheries, and wetlands

• Cultural resources

• Vegetation and wildlife

• Air quality and noise

• Endangered and threatened species

• Public safety

Our independent analysis of the issues will be presented in the EA. We will also evaluate possible alternatives to the proposed project or portions of the project, and make recommendations on how to lessen or avoid impacts on the various resource areas.

Depending on the comments received during the scoping process, the EA may be published and mailed to Federal, State, and local government agencies; public interest groups; Native American tribes; interested individuals; affected landowners, newspapers, libraries, and the Commission's official service list for this proceeding. A 30-day comment period will be allotted for review if the EA is published. We will consider all comments submitted in any Commission Order that is issued for the project.

To ensure your comments are considered, please carefully follow the instructions in the public participation section below.

Public Participation

You can make a difference by providing us with your specific comments or concerns about the project. By becoming a commenter, your concerns will be addressed in the EA and considered by the Commission. Your comments should focus on the potential environmental effects of the proposal, reasonable alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1;

• Reference Docket No. CP06-465-000;

• Mail your comments so that they will be received in Washington, DC on or before December 15, 2006.

Please note that the Commission encourages electronic filing of comments. See 18 Code of Federal Regulations (CFR) 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must end a copy of its filings to all other parties on the Commission's service list for this proceeding. If you want to become an intervenor you must file a motion to intervene according to Rule 214 of the Commission's Rules of Practice and Procedure (18 CFR 385.214). Only intervenors have the right to seek rehearing of the Commission's decision.

Affected landowners and parties with environmental concerns may be granted intervenor status upon showing good cause by stating that they have a clear and direct interest in this proceeding which would not be adequately represented by any other parties. You do not need intervenor status to have your environmental comments considered.

Additional Information

Additional information about the project is available from the Commission's Office of External Affairs at 1-866-208-FERC (3372) or on the FERC Internet Web site (http://www.ferc.gov). Using the “eLibrary” link, select “General Search” from the eLibrary menu, enter the selected date range and “Docket Number” (i.e., CP06-465-000), and follow the instructions. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-19918 Filed 11-24-06; 8:45 am]

BILLING CODE 6717-01-P